DEPARTMENT OF ENERGY

Federal Energy Regulatory Commission

Combined Notice of Filings #1

Take notice that the Commission received the following electric rate filings:

Docket Numbers: ER14-225-002.

Applicants: New Brunswick Energy Marketing Corporation.

Description: Second Supplement to February 14, 2014 Triennial Review Compliance Filing of New Brunswick Energy Marketing Corporation.

Filed Date: 5/9/14.

Accession Number: 20140509-5045.

Comments Due: 5 p.m. ET 5/30/14.

Docket Numbers: ER14-972-002.

Applicants: PJM Interconnection, L.L.C.

Description: Compliance Filing per 4/9/2014 Order in Docket No. ER14-972-000 to be effective N/A.

Filed Date: 5/9/14.

Accession Number: 20140509-5193.

Comments Due: 5 p.m. ET 5/30/14.

Docket Numbers: ER14-1939-000.

Applicants: ISO New England Inc.

Description: Identification of Potential New Capacity Zone Boundary and Request for Waiver of ISO New England Inc.

Filed Date: 5/9/14.

Accession Number: 20140509-5214.

Comments Due: 5 p.m. ET 5/19/14.

Docket Numbers: ER14-1940-000.

Applicants: Midcontinent Independent System Operator, Inc.

Description: 2014-05-08 Docket No. ER14-___-000 Schedule 29 Filing to be effective 6/30/2013.

Filed Date: 5/12/14.

Accession Number: 20140512-5053.

Comments Due: 5 p.m. ET 6/2/14.

Docket Numbers: ER14-1940-001.

Applicants: Midcontinent Independent System Operator, Inc.

Description: 2014-05-08 Docket No. ER14-___-000 Schedule 29 Reconciliation Filing to be effective 4/12/2014.

Filed Date: 5/12/14.

Accession Number: 20140512-5059.

Comments Due: 5 p.m. ET 6/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2014.
Kimberly D. Bose,
Secretary.

[FR Doc. 2014-11721 Filed 5-20-14; 8:45 am]

BILLING CODE 6717-01-P